DEPARTMENT OF COMMERCE

National Oceanic and Atmospheric Administration

[I.D. 020700C]

Fisheries of the Caribbean, Gulf of Mexico, and South Atlantic; Shrimp Fishery of the Gulf of Mexico; Scoping Meetings

AGENCY: National Marine Fisheries Service (NMFS), National Oceanic and Atmospheric Administration (NOAA), Commerce.

ACTION: Notice of scoping meetings; request for comments.

SUMMARY: The Gulf of Mexico Fishery Management Council (Council) will conduct scoping meetings to receive comments on a Draft Options Paper for Amendment 10 to the Fishery Management Plan for the Shrimp Fishery of the Gulf of Mexico (Shrimp Amendment 10).

DATES: Written comments will be accepted until 5 p.m. on March 6, 2000. The scoping meetings will be held from February 28 through March 1, 2000. See SUPPLEMENTARY INFORMATION for specific dates and times.

ADDRESSES: Written comments should be sent to the Gulf of Mexico Fishery Management Council, 3018 U.S. Highway 301, North, Suite 1000, Tampa, Florida 33619; telephone: (813) 228-2815. Copies of the Draft Options Paper are also available from the Council.

FOR FURTHER INFORMATION CONTACT: Dr. Richard Leard, Senior Fishery Biologist, Gulf of Mexico Fishery Management Council; telephone: (813) 228-2815.

SUPPLEMENTARY INFORMATION: The scoping meetings will be convened to receive comments on the need for additional bycatch reduction requirements for the shrimp fishery in the exclusive economic zone (EEZ) south and east of 85°30′ W. long. Amendment 9 to the Fishery Management Plan for the Shrimp Fishery of the Gulf of Mexico (FMP), approved by the National Marine Fisheries Service (NMFS) on July 30, 1997, and implemented by final rule on May 14, 1998 (April 14, 1998; 63 FR 18139), required the use of a NMFS-certified bycatch reduction device (BRD) in shrimp trawls used in the EEZ from Cape San Blas, Florida (85'30' W. long.) to the Texas/Mexico border and provided for the certification of the Fisheye BRD in the 30 mesh position. The purpose of this action was to reduce the bycatch mortality of juvenile red snapper by 44 percent from the average mortality for the years 1984-89. Amendment 9 to the FMP exempted shrimp trawls fishing for royal red shrimp outside of 100 fathoms, as well as groundfish and butterfish trawls. It also excluded small try nets and no more than two ridged frame roller trawls that do not exceed 16 feet (4.9 m). Amendment 9 to the FMP did not require BRDs south and east of 85_30′ West long. because few juvenile red snapper were found as bycatch in this area. Because of the Magnuson-Stevens Fishery Conservation and Management Act's requirement to reduce bycatch to the extent practicable, the Council is considering the need for additional measures to reduce bycatch.

Scoping meetings for the Draft Options Paper on Shrimp Amendment 10 will begin at 7:00 p.m. and end at 10:00 p.m. at all of the following locations:

1. Monday, February 28, 2000—New Orleans Airport Hilton, 901 Airline Drive, Kenner, LA 70062

2. Tuesday, February 29, 2000—Mississippi Department of Marine Resources, 1141 Bayview Avenue, Biloxi, MS 39530

3. Wednesday, March 1, 2000—Adam's Mark Hotel Mobile, 64 South Water Street, Mobile, AL 36602

Special Accommodations

These meetings are physically accessible to people with disabilities. Requests for sign language interpretation or other auxiliary aids should be directed to Anne Alford at the Council (see ADDRESSES).

Dated: February 11, 2000.
Bruce C. Morehead,
Acting Director, Office of Sustainable Fisheries, National Marine Fisheries Service.

[FR Doc. 00-3722 Filed 2-15-00; 8:45 am]

BILLING CODE 3510-22-F